DEPARTMENT OF COMMERCE

Foreign-Trade Zones Board

[Order No. 1340]

Approval for Manufacturing Authority Kvaerner Oilfield Products (Undersea Umbilicals) Within Foreign-Trade Zone 82; Mobile, AL

Pursuant to its authority under the Foreign-Trade Zones Act of June 18, 1934, as amended (19 U.S.C. 81a-81u), the Foreign-Trade Zones Board (the Board) adopts the following Order:

Whereas, the City of Mobile, Alabama, grantee of Foreign-Trade Zone 82, has requested authority under § 400.32(b)(2) of the Board's regulations on behalf of Kvaerner Oilfield Products to manufacture undersea umbilicals under zone procedures within FTZ 82, Mobile, Alabama (FTZ Docket 30-2003, filed June 18, 2003);

Whereas, notice inviting public comment has been given in the Federal Register (68 FR 38009, 6/26/03); and,

Whereas, the Board adopts the findings and recommendations of the examiner's report, and finds that the requirements of the FTZ Act and Board's regulations are satisfied, and that approval of the application is in the public interest;

Now, therefore, the Board hereby approves the request subject to the FTZ Act and the Board's regulations, including § 400.28.

Attest:

Pierre V. Duy,

Acting Executive Secretary.

Signed at Washington, DC, this 25th day of June 2004.
James J. Jochum,
Assistant Secretary for Import Administration, Alternate Chairman, Foreign-Trade Zones Board.

[FR Doc. 04-15234 Filed 7-2-04; 8:45 am]

BILLING CODE 3510-DS-P